DEPARTMENT OF HOMELAND SECURITY

Coast Guard

46 CFR Part 67

[USCG-2016-0531]

Vessel Documentation Regulations—Technical Amendments

AGENCY: Coast Guard, DHS.

ACTION: Final rule.

SUMMARY: The Coast Guard is making technical amendments to its vessel documentation regulations. A Certificate of Documentation, which is required for the operation of a vessel in certain trades, serves as evidence of vessel nationality, and permits a vessel to be subject to preferred mortgages. The amendments make non-substantive edits to align Coast Guard regulations with current vessel documentation statutes, correct typographical errors, and align procedural requirements with current Coast Guard practice.

DATES: This final rule is effective September 20, 2017.

FOR FURTHER INFORMATION CONTACT: For information about this document, call or email Ms. Andrea Heck, National Vessel Documentation Center, U.S. Coast Guard; telephone 304-271-2461, email Andrea.M.Heck@uscg.mil.

SUPPLEMENTARY INFORMATION:

Table of Contents for Preamble

I. Abbreviations

II. Basis, Purpose, and Good Cause Exception to Notice and Comment Requirements

III. Petition for Rulemaking

IV. Discussion of the Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

COD Certificate of Documentation

NVDC National Vessel Documentation Center

OMB Office of Management and Budget

Pub. L. Public Law

§ Section

U.S.C. United States Code

II. Basis, Purpose, and Good Cause Exception to Notice and Comment Requirements

The legal basis of this rulemaking is provided by Title 46 of United States Code (U.S.C.), section 2103. Section 2103 gives the Secretary of the department in which the Coast Guard is operating regulatory authority to carry out the provisions of Title 46, subtitle II (Vessels and Seamen) of the U.S.C., in which vessel documentation statutes are located. The Secretary's authority is delegated to the Coast Guard by Department of Homeland Security Delegation No. 0170.1, para. II (92.a). The purpose of this rule is to make non-substantive edits to: (1) Align the Coast Guard's vessel documentation regulations with current statutes on that subject; (2) correct typographical errors; and (3) align procedural requirements with current Coast Guard practice.

We did not publish a notice of proposed rulemaking for this rule. Under Title 5 of United States Code (U.S.C.) section 553(b)(A), the Coast Guard finds that this rule is exempt from notice and public comment rulemaking requirements, because these changes involve rules of agency organization, procedure, or practice. In addition, the Coast Guard finds that notice and comment procedures are unnecessary under 5 U.S.C. 553(b)(B), as this rule consists only of technical and editorial corrections, organizational, and conforming amendments, and that these changes will have no substantive effect on the public. Under 5 U.S.C. 553(d)(3), the Coast Guard finds that, for the same reasons, good cause exists for making this final rule effective upon publication in the Federal Register.

III. Petition for Rulemaking

On October 18, 2013, the Maritime Law Association, a private group consisting primarily of maritime lawyers, petitioned the Coast Guard to open a rulemaking to make numerous changes to our vessel documentation regulations.¹ The Coast Guard granted the petition on November 6, 2013, and shortly thereafter, began working with members of the Maritime Law Association to identify specifically what changes should be made. Many of the changes the group requested involve significant substantive changes that may be the subject of future regulatory action. However, part of the review process also revealed several instances where the Coast Guard could currently make non-substantive technical corrections.

¹ Docket ID: USCG-2013-0942, available at https://www.regulations.gov/docket?D=USCG-2013-0942.

IV. Discussion of the Rule

“Vessel documentation” refers to the system under which a vessel receives a Government certificate of documentation (COD). This certificate is required for the operation of a vessel of at least 5 net tons in certain trades including: (1) Fisheries on the navigable waters of the United States or its Exclusive Economic Zone; (2) foreign trade or trade with U.S. overseas territories; and (3) coastwise trade (trade between U.S. ports without leaving U.S. territorial waters) as described in 46 U.S.C. 12102 and 46 U.S.C. chapter 121, subchapter II. The COD is also a required element, in 46 U.S.C. 31322, to establish a vessel's entitlement to preferred mortgage status. Under 46 U.S.C. 31326, preferred mortgages have priority over other liens on vessels, and they offer an enhancement to the security available to lenders.

This final rule makes 35 non-substantive changes to 19 sections in 46 CFR part 67. The changes correct omissions, misspellings, or inaccurate references caused by unintentional typographical errors and make small edits for additional clarity. The changes also update referenced material, such as treaty citations and web addresses. Over the course of several decades, through various laws, Congress has undertaken the task of codifying U.S. shipping laws into positive law. The two most significant of these acts were Public Law 98-89 (1986), which codified subtitle II of Title 46 into positive law, and Public Law 109-304 (2006), which completed the process of codifying all of Title 46 into positive law. Due to the recodification of Title 46, several 46 CFR part 67 regulations currently contain inaccurate statutory citations. A crosswalk between pre-codified and codified provisions of Title 46 is available in the disposition tables in 46 U.S.C.²

² The most recent disposition tables for Title 46 are available at https://www.gpo.gov/fdsys/pkg/USCODE-2015-title46/pdf/USCODE-2015-title46-front.pdf.

The changes made by this rule also reflect the elimination of citizenship requirements for mortgagees by Public Law 104-324, section 1113 (1996). Since the issuance of Public Law 104-324, the National Vessel Documentation Center (NVDC) has allowed vessel owners to mortgage their vessels to non-citizens, and it has not restricted the eligibility of a vessel mortgaged to a non-citizen to earn registry or coastwise endorsements, even though 33 CFR 67.17(c) and 67.19(d)(3) continue to explicitly state these restrictions. Therefore, amending these sections will align regulatory text with the current and longstanding 20-year practice of the NVDC, consistent with the statutory requirements, and these changes will result in no impact on industry.

This rule also makes changes to reflect the elimination of renewal decals and address labels for CODs issued by the NVDC. In 2001, the NVDC began to use a new database, Vessel Documentation System 1.0, and introduced the current version of the COD (66 FR 15625, March 20, 2001). This information technology system and recordkeeping form made the use of decals and labels unnecessary; therefore, the NVDC stopped requiring them, even though the relevant sections of part 67 continued to reference them. Amending 46 CFR 67.163(c) and 67.311 will align regulatory text with NVDC's current practice, and these changes will result in no impact on industry.

The following table shows the complete list of sections in 46 CFR part 67 that we are amending, the changes we are making, the reasons for those changes, and their impacts.

Table of Changes
46 CFR affected section | Changed text | Reason for change | Regulatory impact
67.3 | In paragraph (b) of the definition of “Acknowledgment” replace “Hague Convention Abolishing the Requirement for Legalisation of Public Documents” with “Hague Convention Abolishing the Requirement of Legalisation for Foreign Public Documents.” | Minor typographical changes to correct the full title of the Hague Convention in accordance with 33 U.S.T. 883 and TIAS 10072 | None.
| Replace “Article 3” with “Article 4.” | Article 3 is erroneously referenced because the certificate is described in Article 4, not 3 | None.
| Revise the definition of “Certification of Documentation” by replacing “Certification” with “Certificate.” | Correct a typographical error contained in 58 FR 60256, Nov. 15, 1993. The referenced document has historically been described as a “certificate” in accordance with Title 46 of the U.S.C. This change aligns the defined term with the U.S.C. and corresponding Coast Guard regulations | None.
| Following the text “CG-1270”, add “when issued by the Director, National Vessel Documentation Center.” | The change makes clear that the form itself is not a “Certificate of Documentation.” Rather, consistent with longstanding Coast Guard policy, it becomes a “Certificate of Documentation” only when issued by the Director, National Vessel Documentation Center | None.
| In the definition of “United States,” replace “§ 67.19(d)(3)” with “§ 67.19(c)(3).” | The reference to 67.19(d)(3) is erroneous because paragraph (d)(3) has no bearing on the scope of the definition of “United States”; rather it is paragraph (c)(3), which addresses whether or not a rebuilding, if done in a trust territory, would be deemed to have been done in the “United States.” | None.
| In the definition of “Wrecked Vessel,” replace “46 U.S.C. app. 14” with “46 U.S.C. 12107.” | Update the statutory reference to reflect the recodification of Title 46. (Pub. L. 109-304 (2006)) | None.
67.11(a)(2) | Replace “section 2 of the Shipping Act, 1916 (46 U.S.C. app. 802) with “46 U.S.C. 50501.” | Update the statutory references to reflect the recodification of Title 46. (Pub. L. 109-304 (2006)) | None.
| Remove the word “mortgaged.” | Citizenship requirements for mortgagees were eliminated by Public Law 104-324, section 1113, in October 1996. Since the issuance of Public Law 104-324, the NVDC has allowed vessel owners to mortgage their vessels to non-citizens, and it has not restricted the eligibility of a vessel mortgaged to a non-citizen to earn registry or coastwise endorsements, even though the relevant sections of part 67 continued to explicitly state these restrictions | None. Amending this paragraph will align regulatory text with statutory requirements and longstanding corresponding practices of the NVDC.
67.13(a) | Replace an old National Archives and Records Administration Internet address with the new one. | Update an obsolete web address | None.
67.14 | Replace “44 U.S.C. 3507(f)” with “44 U.S.C. 3507(a)(3).” | The stated purpose of this section is to affirm the intention of the Coast Guard to comply with the requirement of the Paperwork Reduction Act that agencies display a current control number assigned by the Director of the Office of Management and Budget (OMB) for each approved agency information collection requirement. That requirement is set forth at 44 U.S.C. 3507(a)(3), not at 44 U.S.C. 3507(f), which refers only to independent regulatory agencies. The purpose of this change is to correct that erroneous reference | None.
67.17(c) | Delete paragraph relating to the effect of a vessel's foreign transfer on its eligibility for a registry endorsement. | Reflect elimination of foreign transfer restrictions by Public Law 104-324, section 1113 (1996) | None. Amending this paragraph will align regulatory text with statutory requirements and longstanding corresponding practices of the NVDC.
67.19(b)(6) | Replace “46 U.S.C. app. 808” with “46 U.S.C. 57109.” | Update the statutory reference to reflect the recodification of Title 46. (Pub. L. 109-304 (2006)) | None.
67.19(d)(2) | Replace “§ 67.35(a)” with “§ 67.35(c).” | Section 67.19 addresses eligibility for a coastwise endorsement; the reference to 67.35(a) is erroneous because the cross-reference to 67.35(a) is to the partnership citizenship requirements for a recreational endorsement. The partnership citizenship requirements for a coastwise endorsement are found at 67.35(c) | None.
67.19(e) | Delete paragraph (e), which is related to the ineligibility for a coastwise endorsement of a foreign-owned vessel. | Reflect elimination of foreign transfer restrictions by Public Law 104-324, section 1113 (1996) | None. Amending this paragraph will align regulatory text with statutory requirements and longstanding corresponding practices of the NVDC.
67.21(e) | Replace “46 U.S.C. 12102(c)(5)” with “46 U.S.C. 12113(c)(3).” | Update the statutory reference to reflect the recodification of Title 46. (Pub. L. 109-304. (2006)) | None.
67.30(c) | Update reference to the Bowater Amendment and the Oil Pollution Act of 1990; replace “46 U.S.C. app. 883-1” with “46 U.S.C. 12118.” | Update the reference to the Bowater Amendment and the Oil Pollution Act of 1990 to reflect the recodification of Title 46. (Pub. L. 109-304 (2006)) | None.
| Replace “46 U.S.C. 12106(d)” with “46 U.S.C. 12117.” | Update the statutory reference to reflect the recodification of Title 46. (Pub. L. 109-304 (2006)) | None.
67.47(a)(3) | Replace “, as defined in section 2 of the Shipping Act, 1916 (46 U.S.C. app. 802), to a person not a citizen within the meaning of section 2 of that act” with “of the United States to a person not a citizen of the United States, as defined in 46 U.S.C. 50501.” | Reworded sentence and update the statutory references to reflect the recodification of Title 46. (Pub. L. 109-304 (2006)) | None.
67.63(b)(1) | Replace “46 U.S.C. app. 14” with “46 U.S.C. 12107.” | Update the statutory reference to reflect the recodification of Title 46. (Pub. L. 109-304 (2006)) | None.
67.133(a) | Replace “46 U.S.C. app. 14” with “46 U.S.C. 12107.” | Update the statutory references to reflect the recodification of Title 46. (Pub. L. 109-304 (2006)) | None.
67.133(b) | Replace “46 U.S.C. app. 14” with “46 U.S.C. 12107.” | Update the statutory references to reflect the recodification of Title 46. (Pub. L. 109-304 (2006)) | None.
67.141(c) | Replace “Certification” with “Certificate.” | Correct a typographical error made in 65 FR 76572, Dec. 7, 2000, regulatory text. The document has historically been described as a “Certificate” in accordance with Title 46 of the U.S.C. This change aligns the defined term with the U.S.C. and corresponding Coast Guard regulations | None.
67.151(b) | Insert “determination of the” following the text “Upon the.” | Correct a typographical error in which the subject language was inadvertently omitted from the regulation, resulting in an incomplete sentence | None.
67.161(a)(3) | Replace “Sections 9 and 37(b) of the Shipping Act, 1916 (46 U.S.C. app. 808, 835(b))” with “46 U.S.C. 56101, 56102 and 57109.” | Update the statutory references to reflect the recodification of Title 46. (Pub. L. 109-304 (2006)) | None.
67.161(a)(4) | Replace “Section 902 of the Merchant Marine Act, 1936 (46 U.S.C. app. 1242)” with “46 U.S.C. 56301.” | Update the statutory references to reflect the recodification of Title 46. (Pub. L. 109-304 (2006)) | None.
67.163(c) | Remove paragraph. | The NVDC no longer issues renewal decals, and therefore, they cannot be affixed. In 2001, the NVDC began to use a new database, Vessel Documentation System 1.0, and introduced the current version of the COD. 66 FR 15625, March 20, 2001. This information technology system and recordkeeping form made the use of decals unnecessary; therefore, the NVDC stopped requiring them, even though the relevant sections of part 67 continued to reference them | None. Amending this paragraph will align regulatory text with NVDC's current, long-standing practice.
67.165(c)(3) | Replace “Sections 9 and 37(b) of the Shipping Act, 1916 (46 U.S.C. app. 808, 835(b))” with “46 U.S.C. 56101, 56102 and 57109.” | Update the statutory references to reflect the recodification of Title 46. (Pub. L. 109-304 (2006)) | None.
67.165(c)(4) | Replace “Section 902 of the Merchant Marine Act, 1936 (46 U.S.C. app. 1242)” with “46 U.S.C. 56301.” | Update the statutory references to reflect recodification of Title 46. (Pub. L. 109-304 (2006)) | None.
67.167(c) | Replace “a sea” with “at sea.” | Correct a minor grammatical typographical error | None.
67.167(c)(10) | Replace “46 U.S.C. 12106(e)” with “46 U.S.C. 12119.” | Update the statutory reference to reflect the recodification of Title 46. (Pub. L. 109-304 (2006)) | None.
67.167(d) | Replace “endorsements” with “endorsement(s).” | Correct minor typographical error; change conforms this paragraph to paragraphs (b), (c), and (e) | None.
67.203(e) | Remove paragraph | Reflect elimination of foreign transfer restrictions by Public Law 104-324, section 1113 (1996) | None. Amending this paragraph will align regulatory text with statutory requirements and longstanding corresponding practices of the NVDC.
67.203(f) | Remove paragraph | Reflect elimination of foreign transfer restrictions by Public Law 104-324, section 1113 (1996) | None. Amending this paragraph will align regulatory text with statutory requirements and longstanding corresponding practices of the NVDC.
67.311 | Remove the language referring to exceptions for new address labels or renewal decals | The NVDC no longer requires new address labels or renewal decals, and therefore, they cannot be altered. In 2001, the NVDC began to use a new database, Vessel Documentation System 1.0, and introduced the current version of the COD. 66 FR 15625, March 20, 2001. This information technology system and recordkeeping form made the use of labels unnecessary; therefore, the NVDC stopped requiring them, even though the relevant sections of part 67 continued to reference them | None. Amending this section will align regulatory text with NVDC's current practice.
| Change to active voice | For reasons of added clarity, change from passive to active voice in compliance with plain language directives; no substantive change intended | None.

In association with the changes made by the recodification of title 46, the Coast Guard is updating its list of authority citations for 46 CFR part 67. For a cross-walk between the changes, please see the disposition tables for title 46 and the Historical and Revision Notes for the applicable sections in the U.S.C.³

³ The most recent disposition tables for Title 46 are available at https://www.gpo.gov/fdsys/pkg/USCODE-2015-title46/pdf/USCODE-2015-title46-front.pdf; Historical and Revision notes for each section are available in the U.S.C. following the code section they accompany.

V. Regulatory Analyses

We developed this rule after considering numerous statutes and Executive orders related to rulemaking. Below we summarize our analyses based on these statutes or Executive orders.

A. Regulatory Planning and Review

Executive Orders 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. Executive Order 13771 (“Reducing Regulation and Controlling Regulatory Costs”) directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, OMB has not reviewed it. As this rule is not a significant regulatory action, this rule is exempt from the requirements of Executive Order 13771. See OMB's Memorandum “Guidance Implementing Executive Order 13771, Titled `Reducing Regulation and Controlling Regulatory Costs'” (April 5, 2017). This rule involves non-substantive changes and internal agency practices and procedures; it will not impose any additional costs on the public. The benefit of the non-substantive changes is increased clarity of regulations.

B. Small Entities

This rule is not preceded by a notice of proposed rulemaking and, therefore, is exempt from the requirements of the Regulatory Flexibility Act (5 U.S.C. 601-612). The Regulatory Flexibility Act does not apply when notice and comment rulemaking is not required.

C. Assistance for Small Entities

Under section 213(a) of the Small Business Regulatory Enforcement Fairness Act of 1996 (Pub. L. 104-121), we want to assist small entities in understanding this rule so that they can better evaluate its effects on them. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new or modified collection of information under the Paperwork Reduction Act of 1995, 44 U.S.C. 3501-3520.

E. Federalism

A rule has implications for federalism under Executive Order 13132 (“Federalism”) if the rule has a substantial direct effect on State or local governments and would either preempt State law or impose a substantial direct cost of compliance on them. We have analyzed this rule under Executive Order 13132 and have determined that it does not have implications for federalism.

F. Unfunded Mandates Reform Act

The Unfunded Mandates Reform Act of 1995, 2 U.S.C. 1531-1538, requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

G. Taking of Private Property

This rule will not cause a taking of private property or otherwise have taking implications under Executive Order 12630, Governmental Actions and Interference with Constitutionally Protected Property Rights.

H. Civil Justice Reform

This rule meets applicable standards in sections 3(a) and 3(b)(2) of Executive Order 12988 (“Civil Justice Reform”), to minimize litigation, eliminate ambiguity, and reduce burden.

I. Protection of Children

We have analyzed this rule under Executive Order 13045 (“Protection of Children from Environmental Health Risks and Safety Risks”). This rule is not an economically significant rule and would not create an environmental risk to health or risk to safety that might disproportionately affect children.

J. Indian Tribal Governments

This rule does not have tribal implications under Executive Order 13175 (“Consultation and Coordination with Indian Tribal Governments”), because it does not have substantial direct effects on one or more Indian tribes, on the relationship between the Federal Government and Indian tribes, or on the distribution of power and responsibilities between the Federal Government and Indian tribes.

K. Energy Effects

We have analyzed this rule under Executive Order 13211 (“Actions Concerning Regulations That Significantly Affect Energy Supply, Distribution, or Use”). We have determined that it is not a “significant energy action” under that order because it is not a “significant regulatory action” under Executive Order 12866 and is not likely to have a significant adverse effect on the supply, distribution, or use of energy. The Administrator of OMB's Office of Information and Regulatory Affairs has not designated it as a significant energy action.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

M. Environment

We have analyzed this rule under Department of Homeland Security Management Directive 023-01 and Commandant Instruction M16475.lD (COMDTINST M16475.1D), which guide the Coast Guard in complying with the National Environmental Policy Act of 1969 (42 U.S.C. 4321-4370f), and have made a determination that this action is one of a category of actions that do not individually or cumulatively have a significant effect on the human environment. A Record of Environmental Consideration supporting this determination is available in the docket. This rule is categorically excluded under Chapter 2, Section B, Paragraph 2 (Categorical Exclusions), and Figure 2-1 (Coast Guard Categorical Exclusions), paragraph (34)(a) and (34)(d) of the Instruction.

This final rule involves technical amendments to the Coast Guard's vessel documentation regulations. Certificates of Documentation allow the operation of vessels in certain trades, provide evidence of vessel nationality, and permit vessels to be subject to preferred mortgages. The technical amendments presented in this rulemaking entail editorial or procedural changes that: (1) Align Coast Guard regulations with current vessel documentation statutes; (2) correct non-substantive typographical errors; and (3) harmonize procedural requirements with current Coast Guard practice. These amendments collectively promote the Coast Guard's maritime safety, security, and environmental protection missions by rendering the Coast Guard's vessel documentation system more effective.

List of Subjects in 46 CFR Part 67

Reporting and recordkeeping requirements, Vessels.

For the reasons discussed in the preamble, the Coast Guard amends 46 CFR part 67 as follows:

PART 67—DOCUMENTATION OF VESSELS

1. The authority citation for part 67 is revised to read as follows:

Authority: 4 U.S.C. 664; 31 U.S.C. 9701; 42 U.S.C. 9118; 46 U.S.C. 2103, 2104, 2107, 12102, 12103, 12104, 12105, 12106, 12113, 12133, 12139; Department of Homeland Security Delegation No. 0170.1.

§ 67.3 [Amended]

2. Amend § 67.3 as follows:

a. In the definition of “Acknowledgment”, redesignate paragraphs (a) and (b) as paragraphs (1) and (2); in newly redesignated paragraph (2), remove the text “Hague Convention Abolishing the Requirement for Legalisation of Public Documents” and add in its place the text “Hague Convention Abolishing the Requirement of Legalisation for Foreign Public Documents”; and in newly redesignated paragraph (2), remove the text “Article 3” and add in its place “Article 4”;

b. In the definition of “Certification of Documentation”, remove the word “Certification” and add in its place the word “Certificate”; and following the text “CG-1270”, add the text “when issued by the Director, National Vessel Documentation Center”;

c. In the definition of “United States,” remove the text “§ 67.19(d)(3)” and add in its place the text “§ 67.19(c)(3)”; and

d. In the definition of “Wrecked vessel,” remove the text “46 U.S.C. app. 14” and add in its place the text “46 U.S.C. 12107”.

§ 67.11 [Amended]

3. In § 67.11(a)(2), remove the text “section 2 of the Shipping Act, 1916 (46 U.S.C. app. 802)” wherever it appears, and add in its place the text “46 U.S.C. 50501”; and in paragraph (a)(2), remove the text “mortgaged,”.

§ 67.13 [Amended]

4. In § 67.13, remove the text “http://www.archives.gov/federal_register/code_of_federal_regulations)/ibr_locations.html” and add in its place the text “http://www.archives.gov/federal-register/cfr/ibr-locations.html”.

§ 67.14 [Amended]

5. In § 67.14(a), remove the text “44 U.S.C. 3507(f)” and add in its place the text “44 U.S.C. 3507(a)(3),”.

§ 67.17 [Amended]

6. In § 67.17, remove paragraph (c).

§ 67.19 [Amended]

7. Amend § 67.19 as follows:

a. In paragraph (b)(6), remove the text “46 U.S.C. app. 808” and add in its place the text “46 U.S.C. 57109”;

b. In paragraph (d) introductory text, remove the text “, except as provided in paragraph (e) of this section,”; and in paragraph (d)(2), remove the text “§ 67.35(a)” and add in its place the text “§ 67.35(c)”; and

c. Remove paragraph (e).

§ 67.21 [Amended]

8. In § 67.21(e), remove the text “46 U.S.C. 12102(c)(5)” and add in its place the text “46 U.S.C. 12113(c)(3)”.

§ 67.30 [Amended]

9. In § 67.30, remove the text “46 U.S.C. app. 883-1” and add in its place the text “46 U.S.C. 12118”; and remove the text “46 U.S.C. 12106(d)” and add in its place the text “46 U.S.C. 12117”.

§ 67.47 [Amended]

10. In § 67.47(a)(3), remove the text “, as defined in section 2 of the Shipping Act, 1916 (46 U.S.C. app. 802), to a person not a citizen within the meaning of section 2 of that act” and add in its place the text “of the United States to a person not a citizen of the United States, as defined in 46 U.S.C. 50501”.

§ 67.63 [Amended]

11. In § 67.63(b)(1), remove the text “46 U.S.C. app. 14” and add in its place the text “46 U.S.C. 12107”.

§ 67.133 [Amended]

12. In § 67.133(a) introductory text and (b), remove the text “46 U.S.C. app. 14” and add in its place the text “46 U.S.C. 12107”.

§ 67.141 [Amended]

13. In § 67.141(c), remove the word “Certification” and add in its place the word “Certificate”.

§ 67.151 [Amended]

14. In § 67.151(b), following the text “Upon the”, add the text “determination of the”.

§ 67.161 [Amended]

15. Amend § 67.161 as follows:

a. In paragraph (a)(3), remove the text “Sections 9 and 37(b) of the Shipping Act, 1916 (46 U.S.C. app. 808, 835(b))” and add in its place the text “46 U.S.C. 56101, 56102 and 57109”; and

b. In paragraph (a)(4), remove the text “Section 902 of the Merchant Marine Act, 1936 (46 U.S.C. app. 1242)” and add in its place the text “46 U.S.C. 56301”.

§ 67.163 [Amended]

16. In § 67.163, remove paragraph (c).

§ 67.165 [Amended]

17. Amend § 67.165 as follows:

a. In paragraph (c)(3), remove the text “Sections 9 and 37(b) of the Shipping Act, 1916 (46 U.S.C. app. 808, 835(b))” and add in its place the text “46 U.S.C. 56101, 56102 and 57109”; and

b. In paragraph (c)(4), remove the text “Section 902 of the Merchant Marine Act, 1936 (46 U.S.C. app. 1242)” and add in its place the text “46 U.S.C. 56301”.

§ 67.167 [Amended]

18. Amend § 67.167 as follows:

a. In paragraph (c) introductory text, following the text “vessel is not”, remove the text “a sea” and add in its place the text “at sea”;

b. In paragraph (c)(10) remove the text “46 U.S.C. 12106(e)” and add in its place the text “46 U.S.C. 12119”; and

c. In paragraph (d) remove the text “endorsements” and add in its place the text “endorsement(s)”.

§ 67.203 [Amended]

19. In § 67.203, remove paragraphs (e) and (f).

20. Revise § 67.311 to read as follows:

§ 67.311 Alteration of Certificate of Documentation.

No person other than a documentation officer shall intentionally alter a Certificate of Documentation.

Dated: September 15, 2017.
Rebecca Orban,
Acting Chief, Office of Regulations and Administrative Law.

[FR Doc. 2017-20023 Filed 9-19-17; 8:45 am]

BILLING CODE 9110-04-P